DEPARTMENT OF COMMERCE

Patent and Trademark Office

Agency Information Collection Activities; Submission to the Office of Management and Budget for Review and Approval; Comment Request; Law School Clinic Certification Program

AGENCY: United States Patent and Trademark Office, Department of Commerce.

ACTION: Notice of information collection; request for comments.

SUMMARY: The United States Patent and Trademark Office (hereafter “USPTO” or “Agency”), as required by the Paperwork Reduction Act of 1995, invites comments on the extension and revision of an existing information collection: 0651-0081 (Law School Clinic Certification Program). The purpose of this notice is to allow 60 days for public comments preceding submission of the information collection to the Office of Management and Budget (OMB).

DATES: To ensure consideration, you must submit comments regarding this information collection on or before February 20, 2026.

ADDRESSES: Interested persons are invited to submit written comments by any of the following methods. Do not submit Confidential Business Information or otherwise sensitive or protected information.

• Email: InformationCollection@uspto.gov. Include “0651-0081 comment” in the subject line of the message.

• Federal eRulemaking Portal: http://www.regulations.gov.

• Mail: Justin Isaac, Office of the Chief Administrative Officer, United States Patent and Trademark Office, P.O. Box 1450, Alexandria, VA 22313-1450.

• Telephone: Dahlia Girgis, Office of Enrollment and Discipline, 571-272-4097.

FOR FURTHER INFORMATION CONTACT: Requests for additional information should be directed to Dahlia Girgis at: Office of Enrollment and Discipline, United States Patent and Trademark Office, P.O. Box 1450, Alexandria, VA 22313-1450; 571-272-4097; or dahlia.girgis@uspto.gov with “0651-0081 comment” in the subject line. Additional information about this information collection is also available at http://www.reginfo.gov under “Information Collection Review.”

SUPPLEMENTARY INFORMATION:

I. Abstract

Public Law 113-227 (Dec. 16, 2014) requires the United States Patent and Trademark Office to establish regulations and procedures for application to, and participation in, the USPTO Law School Clinic Certification Program. The Program allows students enrolled in a participating law school's clinic to practice patent or trademark law before the USPTO under the direct supervision of an approved faculty clinic supervisor. Each clinic provides legal services on a pro bono basis for clients who qualify for assistance from the law school's clinic. By drafting, filing, and prosecuting patent and trademark applications, students gain valuable experience that would otherwise be unavailable to them while in law school. The program also facilitates the provision of pro bono services to patent and trademark applicants who lack the financial resources necessary for traditional legal representation. Currently, 74 law schools participate in the program.

This information collection covers the applications from law schools that wish to enter the program, faculty advisors who seek to become a faculty clinic supervisor, and students who seek to participate in this program. The collection also includes the required semi-annual reports from participating law school clinics and biennial renewals required by the program. With this renewal, the USPTO is renumbering the items within this information collection to match their current arrangement.

II. Method of Collection

Items in this information collection may be submitted as electronic submissions. Applicants may also submit the information in paper form by mail, fax, or hand delivery.

III. Data

OMB Control Number: 0651-0081.

Forms: (LS = Law School)

• PTO-158LS (Application for Limited Recognition in USPTO Law School Program for Law Students to Practice Before the USPTO)

• PTO-159LS (Semi-Annual Law School Clinic Certification Program Reporting § 11.17(b) Requirements for Participation in the USPTO Law School Clinic Certification Program)

• PTO-160LS (Law School Clinic Certification Program Reporting)

• PTO-161LS (Application by Law School Faculty Member to Become a Faculty Clinic Supervisor)

• PTO-162LS (Law School Clinic Certification Program Renewal Application)

Type of Review: Extension and revision of a currently approved information collection.

Affected Public: Private sector; Individuals or Households.

Respondent's Obligation: Required to obtain or retain benefits.

Frequency: On occasion; semiannually; biennially.

Estimated Number of Annual Respondents: 951 respondents.

Estimated Number of Annual Responses: 1,025 responses.

Estimated Time per Response: The USPTO estimates that the responses in this information collection will take the public approximately 30 minutes (0.50 hours) to 30 hours to complete. This includes the time to gather the necessary information, create the document, and submit the completed item to the USPTO.

Estimated Total Annual Respondent Burden Hours: 1,330 hours.

Estimated Total Annual Respondent Hourly Cost Burden: $75,298.

Table 1—Total Burden Hours and Hourly Costs to Private Sector Respondents
Item No. | Item | Estimated annual respondents | Responses per respondent | Estimated annual responses | Estimated time for response (hours) | Estimated burden (hour/year) | Rate ¹ ($/hr) | Estimated annual respondent cost burden
|  | (a) | (b) | (a) × (b) = (c) | (d) | (c) × (d) = (e) | (f) | (e) × (f) = (g)
1 | Application by Law School to Enter the Program | 5 | 1 | 5 | 30 | 150 | $67.28 | $10,092
2 | Semi-annual Report Required of Law School Clinics | 74 | 2 | 148 | 5 | 740 | 67.28 | 49,787
3 | Biennial Renewal Application by Law School | 35 | 1 | 35 | 0.50 (30 minutes) | 18 | 67.28 | 1,211
Totals |  | 114 |  | 188 |  | 908 |  | 61,090
¹ The USPTO expects that university faculty members will complete these items in this information collection at an estimated rate of $67.28 per hour. The faculty rate is found in the May 2024 Occupational Employment and Wage Statistics tables (25-1112 Law Teachers, Postsecondary). While no exact number is listed as a mean hourly wage, USPTO reached the estimated rate by taking the mean annual wage ($139,950) and dividing it by 2,080, which is the number of annual work hours based on a 40-hour work week; https://data.bls.gov/oesprofile/.

Table 2—Total Burden Hours and Hourly Costs to Individual and Household Respondents
Item No. | Item | Estimated annual respondents | Responses per respondent | Estimated annual responses | Estimated time for response (hours) | Estimated burden (hour/year) | Rate ² ($/hr) | Estimated annual respondent cost burden
|  | (a) | (b) | (a) × (b) = (c) | (d) | (c) × (d) = (e) | (f) | (e) × (f) = (g)
4 | Application by Law School Faculty Member to Become a Faculty Clinic Supervisor | 7 | 1 | 7 | 1 | 7 | $67.28 | $471
5 | Application for Limited Recognition for Law Students | 830 | 1 | 830 | 0.50 (30 minutes) | 415 | 33.10 | 13,737
Totals |  | 837 |  | 837 |  | 422 |  | 14,208
² The wage rate for Item 2 is taken from the same source in Table 1. The cost for law students applying to participate in the program (Item 3) is estimated to be at the 50% hourly rate for legal occupations (BLS 23-0000 Legal Occupations) which is $33.10 per hour, as found in the May 2024 Occupational Employment and Wage Statistics tables; https://data.bls.gov/oesprofile/. This accounts for law students' possible employment in various entry level legal positions.

Estimated Total Annual Respondent Non-hourly Cost Burden: $61. There are no maintenance costs, capital start-up costs, recordkeeping costs, or filing fees associated with this information collection. However, the USPTO estimates that the total annual non-hour cost burden for this information collection, in the form of postage, is $61.

Postage

Submissions under the Law School Clinic are accepted via email, postal mail, and hand delivery. The USPTO expects that only five (5) submissions will be submitted through the U.S. Postal Service. The remaining items will be submitted electronically. The average postage cost for a mailed submission, using a Priority Mail flat rate legal envelope is $12.10. Therefore, the USPTO estimates that the total postage costs for the mailed submissions in this information collection will total $61.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be advised that the entire comment—including PII—may be made publicly available at any time. While one may request in a comment to withhold PII from public view, the USPTO cannot guarantee that it will be able to do so.

Lisa Lawn,
Director, Records and Information Compliance Program Office, Office of the Chief Administrative Officer, United States Patent and Trademark Office.

[FR Doc. 2025-23624 Filed 12-19-25; 8:45 am]

BILLING CODE 3510-16-P